ENVIRONMENTAL PROTECTION AGENCY

[FRL-6538-1]

Science Advisory Board; Meeting Cancellation Notice

Meeting Cancellation—Executive Committee Subcommittee on Peer Review of the Integrated Risk Project—February 15, 2000

The meeting of the Subcommittee on Peer Review of the Integrated Risk Project of the Executive Committee of the Science Advisory Board (SAB) that was scheduled for February 15, 2000 between the hours of 3:00 and 5:00 EST has been canceled. The meeting was advertised in 65 FR 3681, dated January 24, 2000. The meeting will be rescheduled at a later time. For further information, please contact Mr. Tom O. Miller, Designated Federal Officer for the Integrated Risk Project: Tele: 202-564-4558. Email: miller.tom@epa.gov.

Dated: February 10, 2000.
Donald G. Barnes,
Staff Director, Science Advisory Board.

[FR Doc. 00-3675 Filed 2-15-00; 8:45 am]

BILLING CODE 6560-50-M